DEPARTMENT OF THE INTERIOR

Bureau of Land Management

[AZ-010-00-14; AZA-30895, AZA-30896, AZA-30897]

Notice of Realty Action; Recreation and Public Purposes (R&PP) Act Classification; Arizona; Correction

AGENCY: Bureau of Land Management, Interior.

ACTION: Notice; correction.

SUMMARY: The Bureau of Land Management published a document in the Federal Register of May 27, 1999, concerning a R&PP Classification in Mohave County, Arizona. The document contained an incorrect section number in the legal description.

FOR FURTHER INFORMATION CONTACT: Laurie Ford, Realty Specialist, (435) 688-3271.

Correction

In the Federal Register of May 27, 1999, in FR Doc. 64-102, on page 28832, the second section of the legal description should read section 10 instead of section 9 as follows:

Sec. 10, NE¼NE¼NW¼NE¼ (2.5 acres for a fire station).

Dated: June 26, 2000.
Roger G. Taylor,
Field Manager.

[FR Doc. 00-17483 Filed 7-10-00; 8:45 am]

BILLING CODE 4310-32-P